DEPARTMENT OF ENERGY

Federal Energy Regulatory Commission

[Docket Nos. IC10-538-000, IC10-539-000, IC10-577-000, IC10-606-000, and IC10-607-000]

Commission Information Collection Activities (FERC-538, FERC-539, FERC-577, FERC-606, and FERC-607); Comment Request; Extensions

January 7, 2010.

AGENCY: Federal Energy Regulatory Commission.

ACTION: Notice of proposed information collections and request for comments.

SUMMARY: In compliance with the requirements of section 3506(c)(2)(a) of the Paperwork Reduction Act of 1995 (Pub. L. No. 104-13), the Federal Energy Regulatory Commission (Commission or FERC) is soliciting public comment on the specific aspects of the information collections described below.

DATES: Comments in consideration of the collections of information are due March 16, 2010.

ADDRESSES: Comments may be filed either electronically or in paper format, and should refer to Docket Nos. IC10-538-000, IC10-539-000, IC10-577-000, IC10-606-000, and IC10-607-000. For comments that only pertain to some of the collections, specify the appropriate collection(s) and related docket number(s). Documents must be prepared in an acceptable filing format and in compliance with the Federal Energy Regulatory Commission submission guidelines at http://www.ferc.gov/help/submission-guide.asp.

Comments may be filed electronically via the eFiling link on the Commission's Web site at http://www.ferc.gov. First time users will have to establish a user name and password (http://www.ferc.gov/docs-filing/eregistration.asp) before eFiling. The Commission will send an automatic acknowledgement to the sender's e-mail address upon receipt of comments through eFiling. Commenters filing electronically should not make a paper filing.

Commenters that are not able to file electronically must send their comments to: Federal Energy Regulatory Commission, Secretary of the Commission, 888 First Street, NE., Washington, DC 20426.

Users interested in receiving automatic notification of activity in this docket may do so through eSubscription at http://www.ferc.gov/docs-filing/esubscription.asp. In addition, all comments and FERC issuances may be viewed, printed or downloaded remotely through FERC's Web site using the “eLibrary” link and searching on Docket Numbers IC10-538, IC10-539, IC10-577, IC10-606, and IC10-607. For user assistance, contact FERC Online Support at: ferconlinesupport@ferc.gov, (866) 208-3676 (toll free), or (202) 502-8659 (TTY).

FOR FURTHER INFORMATION CONTACT: Ellen Brown may be reached by telephone at (202) 502-8663, by fax at (202) 273-0873, or by e-mail at ellen.brown@ferc.gov.

SUPPLEMENTARY INFORMATION: For the purpose of publishing this notice and seeking public comment, FERC requests comments on the following information collections:

• FERC-538, Gas Pipeline Certificate: Section 7(a) Mandatory Initial Service, contained in 18 CFR Part 156; OMB Control No. 1902-0061;

• FERC-539, Gas Pipeline Certificates: Import/Export Related, contained in 18 CFR Parts 153 and 157; OMB Control No. 1902-0062;

• FERC-577, Gas Pipeline Certificates: Environmental Impact Statement, identifies FERC's information collections relating to 18 CFR Part 380 implementing NEPA and includes the environmental compliance conditions of 18 CFR 157.206(b); OMB Control No. 1902-0128;

• FERC-606, Notification of Request for Federal Authorization and Requests for Further Information, contained in 18 CFR Part 385; OMB Control No. 1902-0241; and

• FERC-607, Report on Decision or Action on Request for Federal Authorization, contained in 18 CFR Part 385; OMB Control No. 1902-0240.

The associated regulations, information collections, burdens, and OMB clearance numbers will continue to remain separate and distinct.

FERC-538. Under the Natural Gas Act (NGA) (Public Law 75-688) (15 U.S.C. 717-717w), upon application by a local distribution company or municipality, a natural gas pipeline company may be ordered by the Commission to extend or improve transportation facilities, to establish physical connections to serve, and to sell natural gas to the applicant. Filings pursuant to the provisions of Section 7(a) of the NGA are to contain all information necessary to advise the Commission fully concerning the service which the applicant has requested the Commission to direct the natural gas pipeline company to render (such as a request to direct a natural gas company to extend or improve its transportation facilities, and to sell natural gas to the municipality or person and, for such purpose, to extend its transportation facilities to communities immediately adjacent to such facilities or to territories served by the natural gas pipeline company).

FERC-539. Section 3 of the Natural Gas Act (NGA) (Public Law 75-688) (15 U.S.C. 717-717w) provides, in part, that “* * * no person shall export any natural gas from the United States to a foreign country or import any natural gas from a foreign country without first having secured an order from the Commission authorizing it to do so.” The 1992 amendments to Section 3 of the NGA concern importation or exportation from/to a nation which has a free trade agreement with the United States, and requires that such importation or exportation: (1) Shall be deemed to be a “first sale”, i.e., not a sale for a resale, and (2) Shall be deemed to be consistent with the public interest, and applications for such importation or exportation shall be granted without modification or delay.

With the ratification of the North American Free Trade Agreement and the Canadian Free Trade Agreement, the Federal regulatory focus on construction, operation, and siting of import and export facilities increased significantly.

FERC-577. Section 102(2)(c) of the of the National Environmental Policy Act of 1969 (NEPA) (Pub. L. 91-190) requires that all Federal agencies must include in every recommendation or report on proposals for legislation and other major federal actions significantly affecting the quality of the human environment, a detailed statement on: the environmental impact on the proposed actions; any adverse environmental effects which cannot be avoided should the proposal be implemented; alternatives to the proposed action; the relationship between local short-term uses of man's environment and the maintenance and enhancement of long-term productivity; and any irreversible and irretrievable commitment of resources which would be involved in the proposed action should it be implemented.

FERC-606 and FERC-607. Section 313 of EPAct 2005 directs the Commission: (1) To establish a schedule for state and federal agencies and officers to act on requests for federal authorizations required for NGA section 3 and 7 gas projects, and (2) to maintain a complete consolidated record of all decisions or actions by the Commission and other agencies and officers with respect to federal authorizations.

FERC-606 requires agencies and officials responsible for issuing, conditioning, or denying requests for federal authorizations necessary for a proposed natural gas project to report to FERC regarding the status of an authorization request. This reporting requirement is intended to allow agencies to assist the FERC to make better informed determinations in establishing due dates for agencies' decisions.

FERC-607 requires agencies or officials to submit to FERC a copy of a decision or action on a request for federal authorization and an accompanying index to the documents and materials relied on in reaching a conclusion.

If the collections of data for FERC-538, FERC-539, FERC-577, FERC-606, and FERC-607 in general were not conducted, the Commission would not be able to meet its statutory responsibilities, would not be able to authorize and monitor certain energy projects to ensure that the construction of natural gas pipeline projects and LNG terminals are economically viable, and at the same time, protect the environment.

Action: The Commission is requesting three-year extensions of the current expiration dates for the FERC-538, FERC-539, FERC-577, FERC-606, and FERC-607, with no change to the reporting requirements.

Burden Statement: The estimated annual public reporting burdens and the associated public costs follow.

FERC Data collection | Projected number of respondents | Number of responses per respondent | Projected average burden hours per response | Total annual burden hours¹
| (1) | (2) | (3) | (1) × (2) × (3)
FERC-538 | 1 | 1 | 240 | 240
FERC-539 | 6 | 25.3 | 12 | 1821.6
FERC-577 | 92 | 16 | 193 | 284,096
FERC-606 | 48 | 35.46 | 4.4 | 7,489
FERC-607 | 48 | 34.45 | 6.3 | 10,423
¹ These figures may not be exact, due to rounding and/or truncating.

The total annual cost to respondents1 2 is estimated as follows.

FERC Data collection | Total annual burden hours | Estimated hourly cost ² ($) | Estimated total annual cost to respondents ($)¹
| (1) | (2) | (2) × (1)
FERC-538 | 240 | 66.29 | 15,909
FERC-539 | 1821.6 | 66.29 | 120,753
FERC-577 | 284,096 | 66.29 | 18,832,723
FERC-606 | 7,489 | 66.29 | 496,446
FERC-607 | 10,423 | 66.29 | 690,941
¹ These figures may not be exact, due to rounding and/or truncating.
² Using 2,080 hours/year, the estimated cost for 1 full-time employee is $137,874/year. The estimated hourly cost is $66.29 (or $137,874/2,080).

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collections of information are necessary for the proper performance of the functions of the Commission, including whether the information will have practical utility; (2) the accuracy of the agency's estimates of the burden of the proposed collections of information, including the validity of the methodology and assumptions used; (3) ways to enhance the quality, utility and clarity of the information to be collected; and (4) ways to minimize the burden of the collections of information on those who are to respond, including the use of appropriate automated, electronic, mechanical, or other technological collection techniques or other forms of information technology, e.g. permitting electronic submission of responses.

Kimberly D. Bose,
Secretary.

[FR Doc. 2010-534 Filed 1-13-10; 8:45 am]

BILLING CODE 6717-01-P